DEPARTMENT OF HEALTH AND HUMAN SERVICES

Centers for Disease Control and Prevention

[Docket No. CDC-2024-0082; NIOSH-354]

World Trade Center Health Program; Request for Information

AGENCY: Centers for Disease Control and Prevention (CDC), Department of Health and Human Services (HHS).

ACTION: Request for information.

SUMMARY: The National Institute for Occupational Safety and Health (NIOSH), within the CDC, is soliciting public comment on the scope of two upcoming research funding announcements forecasted for FY2026. The World Trade Center (WTC) Health Program is interested in soliciting applications for Cooperative Research Agreements Related to the World Trade Center Health Program (RFA-OH-26-001) and for Assessment and Evaluation of Emerging Health Conditions Relevant to the World Trade Center Health Program (RFA-OH-26-002). Forecasts are published in grants.gov. The WTC Health Program supports research to help answer critical questions about potential September 11, 2001-related physical and mental health conditions, as well as research on diagnosing and treating health conditions on the List of WTC-Related Health Conditions (List).

DATES: Comments must be received by November 22, 2024.

ADDRESSES: Comments may be submitted through either of the following two methods:

• Federal eRulemaking Portal: http://www.regulations.gov (follow the instructions for submitting comments), or

• By Mail: NIOSH Docket Office, Robert A. Taft Laboratories, MS C-34, 1090 Tusculum Avenue, Cincinnati, Ohio 45226-1998.

Instructions: All written submissions received in response to this notice must include the agency name (Centers for Disease Control and Prevention, HHS) and docket number (CDC-2024-0082; NIOSH-354) for this action. All relevant comments, including any personal information provided, will be posted without change to http://www.regulations.gov.

FOR FURTHER INFORMATION CONTACT: Rachel Weiss, Program Analyst, 1090 Tusculum Avenue, MS: C-48, Cincinnati, OH 45226; telephone (404) 498-2500 (this is not a toll-free number); email NIOSHregs@cdc.gov.

SUPPLEMENTARY INFORMATION: Title I of the James Zadroga 9/11 Health and Compensation Act of 2010 (Zadroga Act) (Pub. L. 111-347, as amended by Pub. L. 114-113, Pub. L. 116-59, Pub. L. 117-328, and Pub. L. 118-31), added Title XXXIII to the Public Health Service Act (PHS Act),¹ establishing the WTC Health Program within HHS. The WTC Health Program provides medical monitoring and treatment benefits for health conditions on the List ² to eligible firefighters and related personnel, law enforcement officers, and rescue, recovery, and cleanup workers who responded to the September 11, 2001, terrorist attacks in New York City, at the Pentagon, and in Shanksville, Pennsylvania (responders). The Program also provides benefits to eligible persons who were present in the dust or dust cloud on September 11, 2001, or who worked, resided, or attended school, childcare, or adult daycare in the New York City disaster area (survivors).

¹ Title XXXIII of the PHS Act is codified at 42 U.S.C. 300mm-300mm-64. Those portions of the Zadroga Act found in Titles II and III of Public Law 111-347 do not pertain to the WTC Health Program and are codified elsewhere.

² The List of WTC-Related Health Conditions is established in 42 U.S.C. 300mm-22(a)(3)-(4) and 300mm-32(b); additional conditions may be added through rulemaking and the complete List is provided in WTC Health Program regulations at 42 CFR 88.15.

The Zadroga Act also requires that the Program conduct or support research on health conditions that may result from the September 11, 2001, terrorist attacks, addressing the following topics:

• Physical and mental health conditions that may be related to the September 11, 2001, terrorist attacks;

• Diagnosing WTC-related health conditions for which there have been diagnostic uncertainty; and

• Treating WTC-related health conditions for which there have been treatment uncertainty.

For more information on NIOSH-funded research projects related to the September 11, 2001, terrorist attacks, and areas of interest based on the Program's Research Agenda, please visit the WTC Health Program Research web page (https://www.cdc.gov/wtc/research.html).

Request for Information

To further relevant WTC Health Program research in FY2026, NIOSH has forecasted two notices of funding opportunities: (1) RFA-OH-26-001: Cooperative Research Agreements Related to the World Trade Center Health Program (https://grants.gov/search-results-detail/356163) and (2) RFA-OH-26-002: Assessment and Evaluation of Emerging Health Conditions Relevant to the World Trade Center Health Program (https://grants.gov/search-results-detail/356164).

NIOSH seeks to achieve a suitable mix of meritorious research projects which assess the feasibility of new ways to enhance interventions and program evaluations with the potential to improve WTC Health Program treatment and care, and the overall well-being of 9/11-exposed populations. Clinical research areas of interest include methods, interventions, or procedures which can improve the screening, diagnosis, and treatment of WTC-related health conditions and care for those exposed. NIOSH expects that such clinical research outcomes will incorporate relevant epidemiological aspects and use research results to improve treatment and care. Assessment and evaluation of treatment and care programs for WTC-related health conditions and exposed populations are also of interest. Additional details are provided in the forecasts for these proposed funding opportunities (please refer to the links included in this notice).

Specifically, NIOSH seeks input on research priorities with regard to the following questions:

(1) What are the primary research needs for the 9/11-exposed population, such as WTC responders, screening-eligible WTC survivors, or certified-eligible WTC survivors?

(2) What are the primary health concerns that are potentially related to 9/11 exposure, or the treatment thereof, and how do they differ among groups within the 9/11-exposed population?

(3) What emerging health conditions that may be related to 9/11 exposure should be prioritized and addressed?

John J. Howard,
Administrator, World Trade Center Health Program and Director, National Institute for Occupational Safety and Health, Centers for Disease Control and Prevention, Department of Health and Human Services.

[FR Doc. 2024-24486 Filed 10-22-24; 8:45 am]

BILLING CODE 4163-18-P